DEPARTMENT OF DEFENSE

Department of the Army, Corps of Engineers

Intent To Prepare a Draft Programmatic Environmental Impact Statement (DPEIS) for Potential Multi-Objective Projects in the Lower Colorado River Basin and Associated Tributaries for Flood Damage Reduction, Ecosystem Restoration, and Recreation Currently in and Around Austin, TX

AGENCY: United States Army Corps of Engineers, DoD.

ACTION: Notice of intent.

SUMMARY: The DPEIS shall investigate alternative solutions, both structural and non-structural, for identified water resource problems, needs, and opportunities within the Lower Colorado River Basin and associated tributaries. Several areas along the Onion Creek Basin, a tributary of the Colorado River, have been identified for which multiobjective flood damage reduction and ecosystem restoration solutions appear feasible. In addition, other flood damage areas have been identified along Shoal Creek, Walnut Creek and the Highland Lake areas, all located in the vicinity of Austin, Texas and along the Colorado River Basin in the vicinity of Wharton, Texas. Onion, Shoal, and Walnut Creeks are located within a designated urban growth corridor for the City of Austin. Continued flood damages would be expected in the absence of flood damage reduction measures. The Highland lakes (Buchanan, Inks, LBJ, Marble Falls, Travis, and Austin) are located on the Colorado River upstream from the City of Austin. Continued urbanization in and around these lakes is expected to increased potential flood damages. Based on preliminary studies, conducted by the Corps of Engineers, there are approximately 25,000 structures located within the 100-year floodplain of the Lower Colorado River Basin.

This action is pursued under the authority of the Flood Control Act of 1936; the Resolution by the Committee on Commerce, United States Senate, adopted in 1936; the Rivers and Harbors Act of 1937; the River and Harbor Act of 1945; and the Resolution by the Committee on Transportation and Infrastructure, United States House of Representatives, adopted in 1998. Onion Creek was previously identified as a candidate stream system/watershed for non-structural flood damage reduction and ecosystem restoration under the Challenge XXI initiative of the Clean Water Action Plan.

FOR FURTHER INFORMATION CONTACT: Questions pertaining to the proposed action and DEIS can be answered by: Mr. Thomas R. Vogt, CESWF-PM-C, U.S. Army Corps of Engineers, Fort Worth District, P.O. Box 17300, Forth Worth, Texas 76102-0300, (817) 978-2669.

SUPPLEMENTARY INFORMATION: Utilizing previous Corps of Engineers studies, and more recent studies conducted by the City of Austin and the Lower Colorado River Authority, alternatives will be developed and evaluated for the purposes of flood damage reduction, ecosystem restoration, recreation, and allied purposes. Non-structural measures for reducing flood damages, which would likely include acquisition and removal, floodproofing, or raising of existing structures, would create additional opportunities for habitat restoration and recreation. Structural measures to be investigated include: Diversion channels and/or channel modifications of various widths, levees and floodwalls of various heights, upstream detention reservoirs, aquifer recharge enhancements, and/or a combination of these measures. In addition to the structural and non-structural measures mentioned above, ecosystem restoration alternatives will be developed and evaluated. Ecosystem restoration alternatives may include: Riparian corridor restoration, protection, and expansion, greenbelts, and potential wetland construction at abandoned or existing quarries. It is anticipated that these ecosystem restoration measures would aid in improving water quality and aquifer recharge, optimize aquatic and terrestrial habitat along waterways, slow erosion and scouring of the stream banks, and provide scenic parks and recreation areas for the residents.

The public will be invited to participate in the Scoping process, review of the draft Programmatic Environmental Impact Statement, and public meetings. The location and time of the scoping meetings will be announced in the local news media. Release of the draft DPEIS for public comment and public meetings will also be announced in the local news media, as these dates are established.

Future coordination with other agencies will be conducted accordingly to insure participation and aid in the development of the DPEIS. All affected Federal, state, and local agencies, affected Indian tribes, and other interested private organizations and parties are hereby invited to participate. Future coordination will also be conducted, with the United States Fish and Wildlife Service. The Service will furnish information on threatened and endangered species in accordance with the Endangered Species Act and they will also be requested to provide support with planning aid and to provide a Coordination Act Report. The State Historic Preservation Officer and the Advisory Council on historic preservation will be consulted for information in accordance with Section 106 of the Historic Preservation Act.

Luz D. Ortiz,
Army Federal Register Liaison Officer.

[FR Doc. 01-18983 Filed 7-30-01; 8:45 am]

BILLING CODE 3710-20-M